DEPARTMENT OF THE INTERIOR

National Park Service

[NPS-WASO-NAGPRA-NPS0036103; PPWOCRADN0-PCU00RP14.R50000]

Notice of Inventory Completion: Indiana Department of Transportation, Indianapolis, IN

AGENCY: National Park Service, Interior.

ACTION: Notice.

SUMMARY: In accordance with the Native American Graves Protection and Repatriation Act (NAGPRA), the Indiana Department of Transportation, though its agent, Ball State University, Applied Anthropology Laboratories, has completed an inventory of human remains and associated funerary objects and has determined that there is no cultural affiliation between the human remains and associated funerary objects and any Indian Tribe. The human remains and associated funerary objects were removed from Henry County, IN.

DATES: Disposition of the human remains and associated funerary objects in this notice may occur on or after August 2, 2023.

ADDRESSES: Kevin C. Nolan, Ball State University, Applied Anthropology Laboratories, 2000 University Avenue, Muncie, IN 47306, telephone (765) 285-5325, email kcnolan@bsu.edu.

SUPPLEMENTARY INFORMATION: This notice is published as part of the National Park Service's administrative responsibilities under NAGPRA. The determinations in this notice are the sole responsibility of the Indiana Department of Transportation. The National Park Service is not responsible for the determinations in this notice. Additional information on the determinations in this notice, including the results of consultation, can be found in the inventory or related records held by Ball State University, Applied Anthropology Laboratories and Indiana Department of Transportation.

Description

In 1987, human remains representing, at minimum, 12 individuals were removed from Site 12-Hn-298 in Henry County, IN. When this site was disturbed during earth-moving activities by Indiana Department of Highways, a salvage excavation was initiated by Ball State University to document the features exposed. The salvage excavations uncovered 12 human burials and 26 other precontact-era cultural features. Radiocarbon dates from the site fall generally in the Late Woodland period (1,000 ± 50, 1430 ± 60, and 1,050 ± 80 RCYBP), with one Late Archaic projectile recovered in back dirt also indicating possibly multiple temporal components. Investigator (Donald Cochran) determined the burials and features represent an Albee phase occupation (ca. 800 to 1200 CE). The human remains have since been curated at Ball State University, Applied Anthropology Laboratories under accession number 87.27. The human remains belong to four juveniles, three female adults, four male adults, and one adult of indeterminate sex. The age of these individuals range from less than 6 months to over 60 years. The 5,600 associated funerary objects are 3,922 faunal elements, 16 animal bone beads, 98 shell beads, 31 animal bone tools, 1,064 floral remains or charcoal samples, 134 ceramics, 27 bifaces or biface fragments, 154 pieces of lithic debitage, 24 unifacial tools, eight cores, one ocher, three celts, 90 fire-cracked rocks, 20 miscellaneous stones, one piece of quartz, one piece of glass, two pieces of metal, one piece of cinder, one plastic button, and two soil samples.

Aboriginal Land

The human remains and associated funerary objects in this notice were removed from known geographic locations. These locations are the aboriginal lands of one or more Indian Tribes. The following information was used to identify the aboriginal land: a final judgment of the Indian Claims Commission or the United States Court of Claims, and the 1818 Treaty of St. Mary's.

Determinations

Pursuant to NAGPRA and its implementing regulations, and after consultation with the appropriate Indian Tribes, the Indiana Department of Transportation has determined that:

• The human remains described in this notice represent the physical remains of 12 individuals of Native American ancestry.

• The 5,600 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Delaware Nation, Oklahoma; Delaware Tribe of Indians; and the Miami Tribe of Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after August 2, 2023. If competing requests for disposition are received, the Indiana Department of Transportation must determine the most appropriate requestor prior to disposition. Requests for joint disposition of the human remains and associated funerary objects are considered a single request and not competing requests. The Ball State University, Applied Anthropology Laboratories, on behalf of the Indiana Department of Transportation, is responsible for sending a copy of this notice to the Indian Tribes identified in this notice.

Authority: Native American Graves Protection and Repatriation Act, 25 U.S.C. 3003, and the implementing regulations, 43 CFR 10.9 and 10.11.

Dated: June 21, 2023.
Melanie O'Brien,
Manager, National NAGPRA Program.

[FR Doc. 2023-14081 Filed 6-30-23; 8:45 am]

BILLING CODE 4312-52-P